DEPARTMENT OF HEALTH AND HUMAN SERVICES

National Institutes of Health

National Heart, Lung, and Blood Institute; Notice of Meeting

Pursuant to section 10(d) of the Federal Advisory Committee Act, as amended, notice is hereby given of a meeting of the Board of Scientific Counselors, NHLBI.

The meeting will be closed to the public as indicated below in accordance with the provisions set forth in section 552b(c)(6), Title 5 U.S.C., as amended for the review, discussion, and evaluation of individual intramural programs and projects conducted by the National Heart, Lung, And Blood Institute, including consideration of personnel qualifications and performance, and the competence of individual investigators, the disclosure of which would constitute a clearly unwarranted invasion of personal privacy.

Name of Committee: Board of Scientific Counselors, NHLBI.

Date: June 11, 2018.

Time: 8:00 a.m. to 5:00 p.m.

Agenda: To review and evaluate personal qualifications and performance, and competence of individual investigators.

Place: National Institutes of Health, Building 10, 6th Floor, Room 6S233, 10 Center Drive, Bethesda, MD 20892.

Contact Person: Robert S. Balaban, Ph.D., Scientific Director, Division of Intramural Research National Institutes of Health, NHLBI Building 10, 4th Floor, Room 1581, 10 Center Drive, Bethesda, MD 20892, 301-496-2116, balabanr@nhlbi.nih.gov.

Information is also available on the Institute's/Center's home page: https://www.nhlbi.nih.gov/node/80103, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 15, 2018.
Michelle D. Trout,
Program Analyst, Office of Federal Advisory Committee Policy.

[FR Doc. 2018-10679 Filed 5-18-18; 8:45 am]

BILLING CODE 4140-01-P